DEPARTMENT OF COMMERCE

National Oceanic and Atmospheric Administration

RIN 0648-XL06

Fisheries in the Western Pacific; Marine Conservation Plan for Pacific Insular Areas; Northern Mariana Islands

AGENCY: National Marine Fisheries Service (NMFS), National Oceanic and Atmospheric Administration (NOAA), Commerce.

ACTION: Notice of agency decision.

SUMMARY: NMFS announces the approval of a three-year marine conservation plan (MCP) for the Northern Mariana Islands.

DATES: This agency decision is effective October 6, 2008.

ADDRESSES: Copies of the MCP are available from the Western Pacific Fishery Management Council (Council), 1164 Bishop St., Suite 1400, Honolulu, HI 96813, tel 808-522-8220, fax 808-522-8226.

FOR FURTHER INFORMATION CONTACT: Alvin Katekaru, NMFS Pacific Islands Regional Office, at (808)944-2207.

SUPPLEMENTARY INFORMATION: Under Section 204(e)(1)(A)of the Magnuson-Stevens Fishery Conservation and Management Act (Magnuson-Stevens Act), the Secretary of State, with the concurrence of the Secretary of Commerce (Secretary) and in consultation with the Council, may negotiate and enter into a Pacific Insular Area fishery agreement (PIAFA) to allow foreign fishing within waters of the U.S. Exclusive Economic Zone (EEZ) adjacent to American Samoa, Guam, or the Northern Mariana Islands, and at the request and with the concurrence of, and in consultation with, the Governor of the Pacific Insular Area to which the PIAFA applies. Section 204(e)(4) of the Magnuson-Stevens Act requires that prior to entering into a PIAFA, the appropriate Governor and the Western Pacific Fishery Management Council (Council) shall develop a three-year MCP containing detailing the uses for funds to be collected by the Secretary under the PIAFA. Any payments received under a PIAFA shall be deposited into the United States Treasury and then covered over to the Treasury of the Pacific Insular Area for which funds were collected. In the case of violations by foreign fishing vessels occurring within the EEZ off any Pacific Insular Area, any amount received by the Secretary which is attributable to fines and penalties imposed under the Magnuson-Stevens Act, including such sums collected from the forfeiture and disposition or sale of property seized subject to its authority, after payment of direct costs of the enforcement action to all entities involved in such action, shall be deposited into the Treasury of the Pacific Insular Area adjacent to the EEZ in which the violation occurred, to be used for fisheries enforcement and for implementation of a MCP.

The MCP to be approved by the Secretary must be consistent with the Council's fishery management plans, identify conservation and management objectives (including criteria for determining when such objectives have been met), and prioritize planned marine conservation projects.

At its 138th meeting held in June 2007, the Council approved the MCP for the Northern Mariana Islands and recommended its submission to the Secretary for approval. NMFS, designee of the Secretary, received the MCP on March 10, 2008. Following a review of the MCP, NMFS informed the Council and Government of the Commonwealth of the Mariana Islands (CNMI) that the MCP was incomplete. On September 23, 2008, the Department of Lands and Natural Resources, CNMI, submitted an amended MCP to NMFS.

The MCP contains 12 objectives, listed below, which are consistent with the Council's five existing fishery management plans:

1. Data collection and reporting;

2. Resource assessment and monitoring;

3. Incidental catch, bycatch, and protected species interaction;

4. Habitat assessment and monitoring;

5. Management procedures;

6. Surveillance and enforcement;

7. Domestic fisheries development;

8. Marine conservation education;

9. Public participation;

10. Regional cooperation;

11. Performance evaluation; and

12. Western Pacific demonstration projects.

The MCP identifies 19 programs or projects associated with the MCP objectives for potential funding under a PIAFA. The top ten projects in order of priority are:

1. EEZ enforcement program;

2. Subsistence and recreational harvest monitoring system;

3. Commercial harvest monitoring system;

4. Charter fishing economic impact study;

5. Analysis of data on pelagic fishery resources;

6. CNMI commercial fisheries baseline assessment;

7. Regional fisheries meeting and conferences funding assistance;

8. Recreational and subsistence fishing economic impact and use study;

9. Fisheries technology program; and

10. Local auction marketplace feasibility study.

This notice announces that NMFS has determined that the MCP for the Northern Mariana Islands satisfies the requirements of the Magnuson-Stevens Act and has approved the MCP for a three-year period: October 6, 2008, through October 6, 2011.

Dated: October 9, 2008.
Alan D. Risenhoover,
Director, Office of Sustainable Fisheries, National Marine Fisheries Service.

[FR Doc. E8-24485 Filed 10-14-08; 8:45 am]

BILLING CODE 3510-22-S